DEPARTMENT OF ENERGY

Federal Energy Regulatory Commission

[Docket No. AD19-13-000]

Reliability Technical Conference; Notice Inviting Post-Technical Conference Comments

On Thursday, June 27, 2019, the Federal Energy Regulatory Commission convened a Commissioner-led technical conference to discuss policy issues related to the reliability of the Bulk-Power System.

All interested persons are invited to file post-technical conference comments on the topics concerning the reliability of the Bulk-Power System discussed during the technical conference, including the questions listed in the Final Notice issued on July 3, 2019. Commenters need not respond to all questions asked. Commenters should organize responses consistent with the numbering of the questions and identify to what extent their responses are generally applicable. Commission staff reserves the right to post additional follow-up questions related to those panels if deemed necessary. In addition, commenters are encouraged, when possible, to provide specific examples and data in support of their answers. Comments must be submitted on or before 30 days from the date of this notice and should not exceed 30 pages. Comments may be filed electronically via the internet. See 18 CFR 385.2001(a)(1)(iii) and the instructions on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE, Washington, DC 20426.

For further information about this Notice, please contact:

Lodie White, Office of Electric Reliability, Federal Energy Regulatory Commission, 888 First Street NE, Washington, DC 20426, (202) 502-8453, lodie.white@ferc.gov.

Robert Clark, Office of Electric Reliability, Federal Energy Regulatory Commission, 888 First Street NE, Washington, DC 20426, (202) 502-8165, robert.clark@ferc.gov.

Dated: July 23, 2019.
Nathaniel J. Davis, Sr.,
Deputy Secretary.

[FR Doc. 2019-16108 Filed 7-29-19; 8:45 am]

BILLING CODE 6717-01-P